DEPARTMENT OF TRANSPORTATION

National Highway Traffic Safety Administration

[Docket No. NHTSA-2009-0160]

Notice of Cancellation of Public Hearing to Determine Whether Transportation Collaborative, Inc. (TCI) Has Met Notification and Remedy Requirements

AGENCY: National Highway Traffic Safety Administration (NHTSA), DOT.

ACTION: Notice of hearing cancellation.

SUMMARY: NHTSA is issuing this notice to cancel a public hearing scheduled for October 23, 2009, at 10 a.m. This public hearing was originally announced in a notice published in the Federal Register, 74 FR 48624, on September 23, 2009.

SUPPLEMENTARY INFORMATION: NHTSA is cancelling the October 23, 2009 public hearing to gather information on whether Transportation Collaborative, Inc. of Warwick, New York, (“TCI”) had reasonably met its obligations under the National Traffic and Motor Vehicle Safety Act, as amended, to notify owners, purchasers, and dealers and/or remedy failures to comply with federal motor vehicle safety standards (FMVSS) or defects related to motor vehicle safety in fifteen (15) recalls involving vehicles built by U.S. Bus, Inc. of Suffern, New York (“U.S. Bus”). TCI has agreed to undertake all actions necessary to carry out the fifteen (15) recalls.

FOR FURTHER INFORMATION CONTACT: Zachary Dunlap, Office of Chief Counsel, National Highway Traffic Safety Administration, 1200 New Jersey Avenue, SE., Washington, DC 20590; (202) 366-5263.

Authority: 49 U.S.C. 30118(e), 30120(e); 49 CFR 557.7; delegations of authority at 49 CFR 1.50(a), 49 CFR 501.4(a)(3), and 49 CFR 501.8.

Issued: October 19, 2009.
Claude Harris,
Director, Office of Vehicle Safety and Compliance.

[FR Doc. E9-25464 Filed 10-21-09; 8:45 am]

BILLING CODE 4910-59-P